DEPARTMENT OF THE TREASURY

Submission for OMB Review; Comment Request

September 4, 2001.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before October 12, 2001 to be assured of consideration.

Internal Revenue Service

OMB Number: 1545-0150.

Form Number: IRS Form 2848.

Type of Review: Extension.

Title: Power of Attorney and Declaration of Representative.

Description: Form 2848 is used to authorize someone to act for the respondent in tax matters. It grants all powers that the taxpayer has except signing a return and cashing refund checks. Data is used to identify representatives and to ensure that confidential information is not divulged to unauthorized persons. Also used to input representative on CAF (Central Authorization File).

Respondents: Individuals or households, Business or other for-profit, Not-for-profit institutions, Farms.

Estimated Number of Respondents/Recordkeepers: 800,000.

Estimated Burden Hours Per Respondent/Recordkeeper:

Recordkeeping—19 min.

Learning about the law or the form—28 min.

Preparing the form—29 min.

Copying, assembling, and sending the form to the IRS—34 min.

Frequency of Response: Annually.

Estimated Total Reporting/Recordkeeping Burden: 1,504,000 hours.

OMB Number: 1545-0531.

Form Number: IRS Form 70-NA.

Type of Review: Revision.

Title: United States Estate (and Generation-Skipping Transfer) Tax Return, Estate of Non-Resident Not a Citizen of the United States.

Description: Under section 6018, executors must file estate tax returns for nonresident noncitizens who had property in the United States. Executors use Form 706-NA for this purpose. IRS uses the information to determine correct tax and credits.

Respondents: Individuals or households.

Estimated Number of Respondents/Recordkeepers: 1,000.

Estimated Burden Hours Per Respondent/Recordkeeper:

Recordkeeping—1 hr., 38 min.

Learning about the law or the form—40 min.

Preparing the form—1 hr., 58 min.

Copying, assembling, and sending the form to the IRS—54 min.

Frequency of Response: Annually.

Estimated Total Reporting/Recordkeeping Burden: 4,607 hours.

OMB Number: 1545-1119.

Form Number: IRS Forms 8804, 8805 and 8813.

Type of Review: Extension.

Title: Form 8804: Annual Return for Partnership Withholding Tax (Section 1446); Form 8805: Foreign Partner's Information Statement of Section 1446 Withholding Tax; and Form 8813: Partnership Withholding Tax Payment Voucher (Section 1446)

Description: Code section 1446 requires partnerships to pay a withholding tax if they have effectively connected taxable income allocable to foreign partners. Forms 8804, 8805 and 8813 are used by withholding agents to provide IRS and affected partners with data to assure proper withholding, crediting to partners' accounts and compliance.

Respondents: Business or other for-profit, Individuals or households.

Estimated Number of Respondents/Recordkeepers: 5,000.

Estimated Burden Hours Per Respondent/Recordkeeper:

Form | 8804 (min.) | 8805 (min.) | 8813 (min.)
Recordkeeping | 58 | 58 | 26
Learning about the law or the form | 57 | 54 | 49
Preparing the form | 30 | 16 | 15
Copying, assembling, and sending the form to the IRS | 20 | 16 | 10

Frequency of Response: On occasion.

Estimated Total Reporting/Recordkeeping Burden: 121,200 hours.

Clearance Officer: Garrick Shear, Internal Revenue Service, Room 5244, 1111 Constitution Avenue, NW., Washington, DC 20224.

OMB Reviewer: Alexander T. Hunt, (202) 395-7860, Office of Management and Budget, Room 10202, New Executive Office Building, Washington, DC 20503.

Lois K. Holland,
Departmental Reports, Management Officer.

[FR Doc. 01-22860 Filed 9-11-01; 8:45 am]

BILLING CODE 4830-01-P